DEPARTMENT OF THE INTERIOR

National Park Service

Great Sand Dunes National Park Advisory Council Meeting

AGENCY: National Park Service, DOI.

ACTION: Announcement of meeting.

SUMMARY: Great Sand Dunes National Park and Preserve announces a meeting of the Great Sand Dunes National Park Advisory Council, which was established to provide guidance to the Secretary on long-term planning for Great Sand Dunes National Park and Preserve.

DATES: The meeting date is:

1. February 23, 2006, 9 a.m.-12 p.m., Mosca, Colorado.

ADDRESSES: The meeting location is:

1. Mosca, Colorado—Great Sand Dunes National Park and Preserve

Visitor Center, 11999 Highway 150, Mosca, CO 81146.

FOR FURTHER INFORMATION CONTACT: Steve Chaney, 719-378-6312.

SUPPLEMENTARY INFORMATION: At the February 23 meeting, the National Park Service will solicit ideas from the advisory council about potential dates and formats for upcoming public meetings concerning the General Management Plan, Wilderness Study and EIS; provide an update on the progress of the plan and EIS; and respond to questions about specific provisions of the plan. A public comment period will be held from 11:45 a.m. to 12 p.m.

Rick Frost,
Acting Regional Director.

[FR Doc. E6-1810 Filed 2-9-06; 8:45 am]

BILLING CODE 4312-CL-P